DEPARTMENT OF LABOR

Employment and Training Administration

[TA-W-72,861]

Stanley Furniture Company, Inc., Including On-Site Leased Workers From Ameristaff Employment and Staffing Solutions, Stanleytown, VA; Amended Certification Regarding Eligibility To Apply for Worker Adjustment Assistance

In accordance with Section 223 of the Trade Act of 1974, as amended (“Act”), 19 U.S.C. 2273, the Department of Labor issued a Certification of Eligibility to apply for Worker Adjustment Assistance on May 5, 2010, applicable to workers of the subject firm. The Department's Notice will soon be published in the Federal Register.

At the request of the State Agency, the Department reviewed the certification for workers of the subject firm. The workers are engaged in activities related to the production of household furniture and furnishings. Workers of the subject firm were eligible to apply for Trade Adjustment Assistance (TAA) under TA-W-62,313A (expired on October 30, 2009). On-site leased workers, however, were not covered under TA-W-62,313A.

Based on these findings, the Department is amending this certification to clarify that workers of the subject firm who were partially or totally separated from employment on or before October 30, 2009 must apply for TAA under TA-W-62,313A, that workers of the subject firm who are separated on or after October 31, 2009 through May 5, 2012 must apply for TAA under TA-W-72,861, and that leased workers from Ameristaff Employment and Staffing Solutions working on-site at the subject firm who are partially or totally separated from employment on or after November 16, 2008 through May 5, 2012 must apply for TAA under TA-W-72,861.

The amended notice applicable to the TA-W-72,861 is hereby issued as follows:

All workers of Stanley Furniture Company, Inc., Stanleytown, Virginia, who became totally or partially separated from employment on or after October 31, 2009 through May 5, 2012, and all on-site leased workers from Ameristaff Employment and Staffing Solutions, who became partially or totally separated from employment on or after November 16, 2008 through May 5, 2012, and all workers in the group threatened with total or partial separation from employment on May 5, 2010 through May 5, 2012, are eligible to apply for adjustment assistance under Chapter 2 of Title II of the Trade Act of 1974, as amended.

Signed in Washington, DC, this 13th day of May, 2010.
Del Min Amy Chen,
Certifying Officer, Division of Trade Adjustment Assistance.

[FR Doc. 2010-12889 Filed 5-27-10; 8:45 am]

BILLING CODE 4510-FN-P